DEPARTMENT OF EDUCATION

Smaller Learning Communities Program

AGENCY: Office of Vocational and Adult Education, Department of Education.

ACTION: Notice of proposed priorities, requirements, definitions, and selection criteria.

SUMMARY: The Assistant Secretary for Vocational and Adult Education proposes priorities, requirements, definitions, and selection criteria for a special competition under the Smaller Learning Communities (SLC) program. The Assistant Secretary may use these priorities, requirements, definitions and selection criteria for a special competition using a portion of fiscal year (FY) 2004 funds and also in future years. The priorities, requirements, definitions and selection criteria proposed in this notice will not be used for all FY SLC 2004 competitions. Projects funded using these priorities, requirements, definitions, and selection criteria would create and/or expand SLC activities as well as participate in a national research evaluation of supplemental reading programs. Another SLC competition will be conducted later this year, awarding additional FY 2004 funds, for projects that do not require participation in the national research evaluation. Requirements, priorities, definitions, and selection criteria for that competition will be proposed in a notice in the Federal Register at a later date.

We propose these priorities, requirements, definitions, and selection criteria to focus federal financial assistance on an identified national need for scientifically based data on supplemental reading programs for adolescents.

DATES: We must receive your comments on or before February 28, 2005.

ADDRESSES: Address all comments about these proposed priorities, requirements, definitions, and selection criteria to Matthew Fitzpatrick, 400 Maryland Avenue, SW., room 11120, Potomac Center Plaza, Washington, DC 20202-7120. If you prefer to send your comments through the Internet, use the following address: matthew.fitzpatrick@ed.gov.

You must include the term “SLC Public Comment” in the subject line of your electronic message.

FOR FURTHER INFORMATION CONTACT: Matthew Fitzpatrick. Telephone: (202) 245-7809.

If you use a telecommunications device for the deaf (TDD), you may call the Federal Relay Service (FRS) at 1-800-877-8339.

Individuals with disabilities may obtain this document in an alternative format (e.g., Braille, large print, audiotape, or computer diskette) on request to the contact person listed under FOR FURTHER INFORMATION CONTACT.

SUPPLEMENTARY INFORMATION:

Invitation To Comment

We invite you to submit comments regarding these proposed priorities, requirements, definitions, and selection criteria. To ensure that your comments have maximum effect in developing the notice of final priorities, requirements, definitions, and selection criteria, we urge you to identify clearly the specific proposed priority, requirement, definition, or selection criterion that each comment addresses.

We invite you to assist us in complying with the specific requirements of Executive Order 12866 and its overall requirement of reducing regulatory burden that might result from these proposed priorities, requirements, definitions, and selection criteria. Please let us know of any further opportunities we should take to reduce potential costs or increase potential benefits while preserving the effective and efficient administration of the program.

During and after the comment period, you may inspect all public comments about these proposed priorities, requirements, definitions, and selection criteria at the U.S. Department of Education, Office of Vocational and Adult Education, room 11122, 550 12th Street, SW., Washington, DC, between the hours of 8:30 a.m. and 4 p.m., eastern time, Monday through Friday of each week except Federal holidays.

Assistance to Individuals With Disabilities in Reviewing the Rulemaking Record

On request, we will supply an appropriate aid, such as a reader or print magnifier, to an individual with a disability who needs assistance to review the comments or other documents in the public rulemaking record for these proposed priorities, requirements, definitions, and selection criteria. If you want to schedule an appointment for this type of aid, please contact the person listed under FOR FURTHER INFORMATION CONTACT.

Background

Improving adolescent literacy is one of the major challenges facing high schools today. High school students must have strong literacy skills in order to acquire the knowledge and skills in English/language arts, mathematics, science, social studies, and other courses that they need in order to prepare for further learning, for careers, and for active participation in our democracy. Too many young people are now entering high school without these essential skills. At a time when they will soon enter high school, one-quarter of all eighth-grade students and more than 40 percent of those in urban schools scored below the basic level on the National Assessment of Education Progress (NAEP) in 2003. According to one estimate, at least one-third of entering ninth graders are at least two years behind grade level in their reading skills (Balfanz, et al., 2002). Many of these young people become discouraged and drop out before they reach the twelfth grade. Large numbers of those who do persist through their senior year leave high school nearly as unprepared for the future as when they entered it. Twenty-eight percent of twelfth-grade public school students scored below the basic level on the NAEP 2002 reading assessment. These students face a bleak future in an economy and society that demands more than ever before, higher levels of reading, writing, and oral communication skills.

Recognizing the importance of improving the literacy skills of America's children and youth, President Bush established, as key priorities, the implementation of scientifically based approaches to reading in the early grades and the development of new knowledge about how best to help adolescents read well.

One ongoing initiative, the Adolescent Literacy Research Network, created by the Department's Office of Vocational and Adult Education (OVAE) and the Office of Special Education and Rehabilitative Services (OSERS) in collaboration with the National Institute of Child Health and Human Development (NICHD), supports six, five-year experimental research projects. These projects are examining cognitive, perceptual, behavioral, and other mechanisms that influence the development of reading and writing abilities during adolescence, as well as the extent to which interventions may narrow or close literacy gaps for adolescents.

While these and other long-term, scientifically based research studies promise to provide a stronger foundation for designing more effective literacy interventions for adolescents, a number of noteworthy supplemental reading programs for adolescents are already available and have attracted great attention from high school leaders concerned about the literacy skills of their freshman students. High schools that have created freshman academy SLCs to ease the transition of ninth-grade students to high school are among those most interested in addressing the needs of ninth graders who have reading skills that are significantly below grade level. Unfortunately, however, there is little or no scientifically based evidence that schools can consult to inform their decision-making regarding the selection and implementation of these reading programs.

In addition to this ongoing research initiative, to help fill this knowledge gap, the Department is now seeking to partner with local educational agencies (LEAs) in a national research evaluation that will examine the effectiveness of two supplemental reading programs that will be implemented within freshman academy SLCs. Section 5441(c)(2)(B) of the Elementary and Secondary Education Act of 1965, as amended by the No Child Left Behind Act of 2001 (ESEA), authorizes SLC funds to be used to “research, develop, and implement * * * strategies for effective and innovative changes in curriculum and instruction, geared to challenging State academic content standards and State student academic achievement standards.” The Department proposes in this notice to provide a new opportunity for interested LEAs that are implementing freshman academy SLCs to partner with us to evaluate the effectiveness of two promising supplemental reading programs for ninth-grade students whose reading skills are two to four years below grade level.

The Department's Institute of Education Sciences (IES) has awarded a contract to MDRC and the American Institutes of Research (AIR) to conduct this supplemental reading program evaluation. AIR has solicited proposals from vendors of classroom-based supplemental reading programs that wish to participate in this initiative. The supplemental reading programs must be suitable for implementation within freshman academies, must be research-based, and must address all aspects of reading, from basic alphabetic skills to higher-level comprehension and writing. The programs must also consider issues of how to motivate adolescents to read. MDRC and AIR will convene an independent, expert panel to evaluate the programs submitted for consideration, assessing, particularly, the extent to which a program incorporates the features judged by experts in the field to be indicative of a high-quality adolescent reading program and the extent to which there is research-based evidence of the program's effectiveness. Based on the expert panel's recommendations, MDRC and AIR will select the two most promising programs for evaluation through this initiative. These programs will be identified and described in detail in the final notice inviting applications for this competition.

Interested LEAs that are selected to participate in this initiative will implement the supplemental reading programs during the 2005-06 and 2006-07 school years in high schools that have established freshman academy SLCs. Each high school will implement one of the two programs, serving first-time ninth-grade students whose reading skills are two to four years below grade level. Working with MDRC, the contractor selected to conduct the evaluation, each high school will select by lottery approximately 50 students from a pool of a minimum of 125 eligible students to participate in the supplemental reading program; the remaining students will be assigned to an elective course, study hall, or other activity in which they would otherwise participate. The evaluators will work with each LEA and high school to assess the effectiveness of the supplemental reading program. After the completion of the 2006-07 school year, participating high schools will have gained valuable data about the effectiveness of these supplemental reading programs in their schools. These data will help them to decide whether to expand the supplemental reading program to include all eligible students, or to select and implement another supplemental reading program.

The Department proposes to award 60-month grants using the priorities, requirements, definitions, and selection criteria proposed in this notice. In addition to supporting the other broader SLC activities at each participating high school, each grant will fully fund the costs of implementing the supplemental reading program, technical assistance from the program vendor, and the cost of participating in the evaluation.

The evaluation will provide researchers, policy-makers, school administrators, teachers, and parents throughout the United States important information about these supplemental reading programs and adolescent literacy development, and answer three important questions:

(1) Do specific supplemental literacy interventions supporting personalized and intensive instruction for striving ninth-grade readers significantly improve reading proficiency?

(2) What are the effects of supplemental reading programs on in-school outcomes such as attendance and course-taking behavior, and on longer-term outcomes such as student performance on State assessments in the tenth or eleventh grade?

(3) Which students benefit most from participation in the interventions?

LEAs and participating high schools would benefit in a number of ways from partnering with the Department in this initiative. They would make an important contribution to improving our now-limited knowledge of how we can help most effectively at-risk young people who enter high school with limited literacy skills. They would receive grant funds to support the implementation of a promising supplemental reading program and high-quality professional development for the teachers who will provide instruction. After the second year of the grant, once the research evaluation has been completed, participating schools would be free to expand the program to include all eligible students or implement a new program, if they choose. Finally, they would receive funds to support a broader SLC project that expands or creates new SLC structures and strategies in participating high schools. Those funds would be available for use throughout the 60-month grant period.

We will announce the final priorities, requirements, definitions and selection criteria in a notice in the Federal Register. We will determine the final priorities, requirements, definitions and selection criteria after considering responses to this notice and other information available to the Department. This notice does not preclude us from proposing additional priorities, subject to meeting applicable rulemaking requirements.

Note: This notice does not solicit applications. In any year in which we choose to use these proposed priorities, requirements, definitions, and selection criteria, we invite applications through a notice in the Federal Register. When inviting applications we designate each priority as absolute, competitive preference, or invitational. The effect of each type of priority follows:

Absolute priority: Under an absolute priority we consider only applications that meet the priority (34 CFR 75.105(c)(3)).

Competitive preference priority: Under a competitive preference priority we give competitive preference to an application by either (1) awarding additional points, depending on how well or the extent to which the application meets the competitive priority (34 CFR 75.105(c)(2)(i)); or (2) selecting an application that meets the competitive priority over an application of comparable merit that does not meet the priority (34 CFR 75.105(c)(2)(ii)).

Invitational priority: Under an invitational priority we are particularly interested in applications that meet the invitational priority. However, we do not give an application that meets the invitational priority a competitive or absolute preference over other applications (34 CFR 75.105(c)(1)).

Priorities

Proposed Priorities

Proposed Priority 1—Participation in a National Research Evaluation That Assesses the Effectiveness of Supplemental Reading Programs in Freshman Academies

To be eligible for consideration under this priority, an applicant must:

(1) Apply on behalf of two or four large high schools that are currently implementing freshman academies;

(2) Provide documentation of the LEA's and schools' willingness to participate in a large-scale, national evaluation that uses scientifically based research methods. Each LEA must include in its application a letter from its research office or research board agreeing to meet the requirements of the research design, if such approval is needed according to local policies. If such approval is not required, each LEA must include in its application a letter from its superintendent and the principals of the high schools named in the application, agreeing to meet the requirements of the research design;

(3) Agree to implement two designated supplemental reading programs for striving ninth-grade readers, one in each school, in two or four eligible high schools, adhering strictly to the design of the reading program, with the understanding that the supplemental reading program will be one of two programs announced in the notice of final priorities and will be chosen for the school by the contractor selected to conduct the evaluation;

(4) Agree to assign one language arts teacher in each participating high school—to participate in professional development necessary to implement the supplemental reading program (which may include travel to an off-site location); to teach the selected supplemental reading program to participating students for a minimum of 225 minutes per week for each week of the 2005-2006 and 2006-07 school years; and to complete any surveys and administer any student assessments required by the evaluation contractor;

(5) Assist the contractor in obtaining parental consent for students to participate in assessments and other data collections;

(6) Agree to provide, prior to the start of school years 2005-06 and 2006-07, for each participating high school, a list of at least 125 striving ninth-grade readers who are eligible to participate in the research study; work with the contractor to assign by lottery 50 of those students in each participating high school to the supplemental reading program and assign the remaining students to other activities that they would otherwise participate in, such as a study hall, electives, or other activity that does not involve supplemental reading instruction; provide students selected for the supplemental reading program with a minimum of 225 minutes per week of instruction in the supplemental reading program for each week of the school year; and allow enough flexibility in the schedules of all eligible students so that students who are not initially selected by lottery to participate in the supplemental reading program may be reassigned, at random, to the program if students who were initially selected for the program transfer to another school, drop out, or otherwise discontinue their participation in supplemental reading instruction during the school year.

Rationale: The terms and conditions of this proposed priority are required to implement the scientifically based research design of the research evaluation. The supplemental reading programs, for example, cannot be fairly and effectively evaluated if they are not implemented consistently across sites by well-trained instructors. Similarly, the evaluation design requires eligible students to be assigned randomly to participate in the designated supplemental reading programs so that the evaluation will provide clear and definitive information about the effectiveness of these programs. The design also requires that pairs of high schools implement the two supplemental reading programs so that the two programs can be evaluated under similar conditions. Though the characteristics of high schools within a single LEA may differ, they would each operate within the same policy context and under a similar set of circumstances and are likely to more closely resemble each other than high schools in other LEAs or states.

Proposed Priority 2—Number of Schools

The Secretary proposes a priority for applications from LEAs applying on behalf of four high schools that are implementing freshman academies and that commit to participate in the research study.

Rationale: For the purposes of the research evaluation, the Department will accept applications from LEAs applying on behalf of either four schools or two schools that are implementing freshman academies. Ideally, the LEAs studied in this research evaluation will be uniform in terms of the number of schools participating. Furthermore, maintaining the integrity of the random assignment process is more challenging with a larger number of districts. While the Department would like many districts to have the opportunity to participate, we must balance the potential benefits of more districts receiving the grants with the objective of conducting a rigorous study that will yield conclusive results about the effectiveness of the two supplemental reading programs that will be evaluated.

The Department, therefore, would prefer that all LEAs participating in this research evaluation implement the supplemental reading program in four high schools. However, in the interest of securing a suitable number of strong applications, the Department may implement proposed priority 2 as an invitational or competitive preference priority, in which case the Department will accept applications from LEAs applying on behalf of four or two high schools.

Requirements

Proposed Application Requirements

The Assistant Secretary proposes the following application requirements for this SLC competition. These proposed requirements are in addition to the content that all Smaller Learning Communities grant applicants must include in their applications as required by the program statute under title V, part D, subpart 4, section 5441(b) of the ESEA.

Eligibility

We propose that, to be considered for funding, an applicant must be an LEA (including schools funded by the Bureau of Indian Affairs and educational service agencies) that applies on behalf of two or four large public high schools that have implemented at least one freshman academy SLC by no later than the 2004-2005 school year.

Accordingly, LEAs must identify in their applications the names of the two or four large high schools proposed to participate in the research evaluation and the number of students enrolled in each school, disaggregated by grade level. We will not accept applications from LEAs on behalf of one, three, or more than four schools. We require that each school include grades 11 and 12 and have an enrollment of 1,000 or more students in grades 9 through 12.

Enrollment figures must be based upon data from the current school year or data from the most recently completed school year. We will not accept applications from LEAs applying on behalf of schools that are being constructed and do not have an active student enrollment at the time of application.

The LEA also must provide an assurance that the schools identified in their application: (1) Are implementing at least one freshman academy SLC during the 2004-05 school year; (2) will continue to implement at least one freshman academy SLC during the 2005-06 and 2006-07 school years; and (3) did not implement a classroom-based supplemental reading program for striving ninth-grade readers during the 2004-05 school year. For each school identified in the application, LEAs also must provide evidence that a minimum of 150 striving ninth-grade readers (as defined elsewhere in this notice) were enrolled at the school during each of the 2003-04 and 2004-05 school years. We will accept applications from LEAs whether or not they are applying on behalf of schools that have previously received funding under the Federal SLC program. Eligible schools would be those currently implementing freshman academy SLCs, though the freshman academies need not have been funded through a prior Federal SLC grant.

Rationale: The Department needs enrollment information to determine if each of the two or four schools identified in an application meets the proposed definition of a large high school and to ensure that an LEA is applying on behalf of a correct number of schools. Schools under construction do not have actual enrollment data to be used to determine eligibility and, therefore, may not apply. In addition, the research evaluation design requires that (i) LEAs implement the supplemental reading programs in sets of two or four high schools; (ii) the supplemental reading programs are implemented within established freshman academy SLCs in high schools that have not implemented a classroom-based supplemental reading program or classes for striving ninth-grade readers; and (iii) each school has a minimum of 125 striving ninth-grade readers. While we recognize that no LEA can be certain of the skills and academic needs of the students who will enter a particular high school during the 2005-06 and 2006-07 school years, we believe that high schools whose two most recent freshman classes included at least 150 striving ninth-grade readers are more likely than other high schools to have the required minimum of 125 eligible students during the next two school years.

School Report Cards

We propose to require that LEAs provide, for each of the schools included in the application, the most recent “report card” produced by the State or the LEA to inform the public about the characteristics of the school and its students, including information about student academic achievement and other student outcomes. These “report cards” must include, at a minimum, the information that LEAs are required to report for each school under section 1111(h)(2)(B)(ii) of the ESEA: (1) Whether the school has been identified for school improvement; and (2) information that shows how the academic assessments and other indicators of adequate yearly progress compare to students in the LEA and the State, as well as performance of the school's students on the statewide assessment as a whole.

Rationale: The Department needs the “report cards” to verify the accuracy of the information the LEA provides in its application about student academic achievement and other student outcomes at each school.

Consortium Applications and Governing Authority

In an effort to encourage systemic, LEA-level reform efforts, we propose permitting an individual LEA to submit only one application on behalf of multiple schools. Accordingly, the LEA would be required to specify in its application which high schools it intends to fund.

In addition, we propose to require that an LEA applying for a grant under this competition apply only on behalf of a high school or high schools for which it has governing authority, unless the LEA is an educational service agency applying in the manner described in the section in this notice entitled Educational Service Agencies. An LEA, however, may form a consortium with another LEA with which it shares a geographical border and submit a joint application for funds. In such an instance, the consortium must apply on behalf of either two or four high schools, and follow the procedures for group applications described in 34 CFR 75.127 through 75.129 in the Education Department General Administrative Regulations (EDGAR). For example, an LEA that wishes to apply for a grant but only has one eligible high school may partner with a neighboring LEA, if the neighboring LEA has another eligible high school.

Rationale: These requirements are designed to ensure that each LEA that receives assistance under this program will manage and coordinate school-level planning and implementation activities as part of a single, coherent, LEA-wide reform strategy. These requirements will help LEAs make the most effective and efficient use of SLC resources and assist them in aligning SLC activities with other LEA-level initiatives, including the implementation of activities carried out under other programs funded by the ESEA and the Carl D. Perkins Vocational and Technical Education Act. In addition, a high school would have considerable difficulty implementing or expanding an SLC program without the active participation of its parent LEA.

Educational Service Agencies

We propose to permit an educational service agency to apply on behalf of eligible high schools only if the educational service agency includes in its application evidence that the entity that has governing authority over the eligible high school supports the application.

Rationale: Educational service agencies, which are included in the statutory definition of LEA, typically do not have governing authority over high schools they service. Generally, the administrative control or direction of a high school is invested in a public board of education or another public authority other than an educational service agency. We recognize that not all entities that have administrative control or direction of eligible high schools have the capacity to apply for and administer an SLC grant. Educational service agencies provide resources and expertise to assist districts and schools in performing functions that they otherwise could not, by themselves, perform efficiently or at all. Moreover, they are organized for the explicit purpose of providing education-related services to entities with governing authority over schools and their students.

Budget Information for Determination of Award

We propose that LEAs may receive up to $1,000,000 during the 60-month project period. This is an increase from the maximum range of awards ($550,000 to $770,000) that we established in the previous SLC program competitions, plus an additional $230,000 to cover additional expenses related to participation in the research evaluation.

In its budget calculations, each school would reserve $150,000 for implementation of the supplemental reading program during the 2005-06 school year and $80,000 for the implementation of the program during the 2006-07 school year. These funds will support the salary and benefits of one full-time equivalent teacher who will be responsible for providing the supplemental reading program instruction and performing administrative functions related to the conduct of the research evaluation, professional development and technical assistance provided by the program developer, and the purchase of curriculum and the technology necessary to deliver instruction. The remaining $770,000 will be available to support other activities related to the creation or expansion of smaller learning communities in the school. For one application, LEAs could receive up to $4,000,000. Grants would be designed to support participation in the research evaluation over the first two years of the project period, and a broader SLC project, including such activities as extensive redesign and improvement efforts, professional development, or direct student services, over five years.

Applicants would be required to provide detailed, yearly budget information for the total grant period requested. Understanding the unique complexities of implementing a program that affects a school's organization, physical design, curriculum, instruction, and preparation of teachers, we anticipate awarding the entire amount at the time of initial awards.

The actual size of awards would be based on a number of factors. These factors include the scope, quality, and comprehensiveness of the proposed program, and the range of awards indicated in the application notice.

Rationale: Requiring applicants to provide detailed, yearly budget information for the total grant period requested is necessary for us to determine appropriate grant amounts based on the needs of the LEA and high schools.

Student Placement

We propose that applicants must include a description of how students will be selected or placed in the broader SLC project such that students will not be placed according to ability or any other measure, but will be placed at random or by student/parent choice and not pursuant to testing or other judgments.

Rationale: The Department needs this information to ensure that each funded project complies with the requirements of the statute regarding random assignment or student/parent choice for SLC placement of students. Section 5441(b)(13) of the ESEA requires applicants for SLC grants to describe the method of placing students in the SLC or SLCs, such that students are not placed according to ability or any other measure, but are placed at random or by student/parent choice and not pursuant to testing or other judgments. For instance, projects that place students in any SLC on the basis of their prior academic achievement or performance on an academic assessment are not eligible for assistance under this program. Note that the supplemental reading programs are not SLCs. Enrollment in a supplemental reading program would be contingent on student performance, but enrollment in broader SLCs funded through this program may not be based on ability.

Performance Indicators for the Broader SLC Project

We propose to require applicants to identify in their application specific performance indicators and annual performance objectives for these indicators and one core indicator. Specifically, we propose to require applicants to use the following performance indicators to measure the progress of each school:

(1) The percentage of students who score at the proficient and advanced levels on the mathematics assessments used by the State to measure adequate yearly progress under part A of title I of the ESEA, as well as these percentages disaggregated by the following subgroups:

(A) Major racial and ethnic groups;

(B) Students with disabilities;

(C) Students with limited English proficiency; and

(D) Economically disadvantaged students.

(2) At least two other appropriate indicators the LEA would identify, such as rates of average daily attendance, year-to-year retention, achievement and gains in English proficiency of limited English proficient students; incidence of school violence, drug and alcohol use, and disciplinary actions; or the percentage of students completing advanced placement courses or passing advanced placement tests.

Applicants must identify annual performance objectives for each indicator in their application.

Rationale: The fundamental purpose of SLCs is to improve the academic achievement of students and prepare them to participate successfully in postsecondary education or advanced training, the workforce, our democracy, and our communities. It is important, therefore, that projects measure their progress in improving student academic achievement and other related outcomes.

Evaluation of Broader SLC Projects

We propose to require each applicant to provide an assurance that it will support an evaluation of its broader SLC project that provides information to the project director and school personnel and that will be useful in gauging the project's progress and in identifying areas for improvement. We propose that each evaluation include an annual report for each of the five years of the project period and a final report that would be completed at the end of the fifth year. We would require grantees to submit each of these reports to the Department. We propose to require that the evaluation be conducted by an independent third party evaluator selected by the LEA whose role in the project is limited to conducting the evaluation.

Rationale: Implementing or expanding an SLC project is difficult and complex work that administrators, teachers, and other school personnel must carry out at the same time that they are carrying out other demanding, day-to-day responsibilities. An evaluation that provides regular feedback on the progress of implementation and its impact can help the project director and school personnel identify their successes and how they may need to revise their strategies to accomplish their goals. To be most useful, the evaluation should be objective and be carried out by an independent third party who has no other role in the implementation of the project.

Participation in the Research Evaluation

We propose to require each applicant to provide an assurance that it and each participating high school will take several actions to assist in implementing the research evaluation, including:

(1) The LEA must implement the supplemental reading program(s) adhering strictly to the design of the program(s), including purchasing all necessary instructional materials, technology, professional development, and student materials in sufficient time for the program(s) to be implemented at the start of the 2005-06 and 2006-07 school years.

(2) The LEA or the participating high school(s) must use a lottery to assign randomly 50 of the expected 125 or more students determined to be eligible to participate in the supplemental reading class and the remainder to serve as non-participants.

(3) The LEA must provide a language arts teacher for each participating high school who would receive professional development in the supplemental reading program (three days during Summer 2005 and two follow-up days during each of the 2005-2006 and 2006-2007 school years) and would teach the supplemental reading program to the participating students for a minimum of 225 minutes per week for each week of the 2005-2006 and 2006-07 school years. This teacher would complete four surveys (at the beginning and end of the 2005-2006 and 2006-2007 school years) to provide information on his or her preparation, professional development, and experiences.

(4) The LEA must administer, in conjunction with the contractor selected to conduct the evaluation, a diagnostic group assessment of reading skills at the beginning and the end of the ninth-grade year to assess whether or not those students participating and not participating in the supplemental reading program have made gains in reading skills. This reading assessment might also need to be administered again at the end of the tenth-grade year.

(5) The LEA must provide transcripts and State assessment data for the entire pool of eligible students for the 2005-06, 2006-07, 2007-08, and 2008-09 school years, in a manner and to the extent consistent with the Family Educational Rights and Privacy Act (FERPA) (20 U.S.C. 1232g; 34 CFR part 99).

(6) The LEA must designate a project coordinator who would participate in the professional development and serve as a resource and coordinator for teachers involved in the research study. This project coordinator would also work with the LEA's technology office (if necessary) and the curriculum developers to organize the purchase of computer equipment and software needed to implement the supplemental reading program. The project coordinator would not also be the language arts teacher responsible for teaching the supplemental literacy program.

(7) The LEA and participating high schools must allow enough flexibility in developing the participating students' daily schedules to accommodate the supplemental literacy instruction, which might be scheduled as the typical 45-minute language arts period or as a larger block of 90 minutes for literacy instruction and practice.

(8) The LEA and participating high schools must allow the evaluation team to observe both the classrooms implementing the supplemental literacy program and other English or language arts classrooms in the school.

Rationale: The administration of a complex national research evaluation requires careful planning on the part of each LEA, high school, evaluator, and project director involved. It is essential that all schools participating in the study adhere to the research design to ensure that data collected from the project will be valid.

The use of a lottery to determine the participation of eligible students maintains the integrity of the comparison group. Each school's participation will require the efforts of a language arts teacher trained and dedicated to the faithful implementation of the research design. The language arts teacher will be responsible for working with the contractor selected to conduct the evaluation and administering group assessments of participating students. In a manner consistent with FERPA, the evaluator must have access to student transcripts and assessment data in order to gauge the effectiveness of the supplemental reading program.

High-Risk Status and Other Enforcement Mechanisms

Because the requirements listed in this notice are material requirements, we propose that failure to comply with any requirement or with any elements of the grantee's application would subject the grantee to administrative action, including but not limited to designation as a “high-risk” grantee, the imposition of special conditions, or termination of the grant. Circumstances that might cause the Department to take such action include, but are not limited to: The grantee's failure to implement the designated supplemental reading programs in a manner that adheres strictly to the design of the program; the grantee's failure to purchase all necessary instructional materials, technology, professional development, and student materials in sufficient time for the programs to be implemented at the start of the 2005-06 and 2006-07 school years; and the grantee's failure to adhere to any requirements or protocols established by the evaluator.

Rationale: Part of the Department's role in administering grant funds under the SLC program is to ensure that those taxpayer funds are used in a manner that is consistent with the aims of the grant program. To help ensure proper use of taxpayer funds, the Department reserves the right to use the enforcement actions listed above if a grantee fails to meet the requirements established by this notice and the law authorizing the SLC program.

Definitions

Proposed Definitions

In addition to the definitions set out in the authorizing statute and 34 CFR 77.1, we propose that the following definitions also apply to this special competition. We may apply these definitions in any year in which we run an SLC supplemental reading program competition.

Broader SLC Project means an SLC project at the site of the high school aside from and in addition to that high school's implementation of a supplemental reading program and participation in the research evaluation.

Freshman Academy means a form of SLC structure that groups ninth-grade students into an environment in which a core group of teachers and other adults within the school know the needs, interests, and aspirations of each ninth-grade student well, closely monitor each student's progress, and provide the academic and other support each student needs to transition to high school and succeed. Student enrollment in (or exclusion from) a freshman academy is not based on ability, testing, or measures other than ninth-grade status and student/parent choice or random assignment. A freshman academy differs from a simple grouping of ninth-graders in that it incorporates programs or strategies designed to ease the transition for students from the eighth grade to the high school. A freshman academy may include ninth-grade students exclusively or it may be part of an SLC, sometimes called a “house,” which groups together a small number of ninth- through twelfth-grade students for instruction by the same core group of academic teachers. The freshman academy refers only to the ninth-grade students in the house.

Large High School means an entity that includes grades 11 and 12 and has an enrollment of 1,000 or more students in grades 9 and above.

Research evaluation means the study of the effectiveness of supplemental reading programs that are implemented within freshman academies and that is being sponsored by the Department of Education and is described elsewhere in this notice.

Smaller Learning Community (or SLC) means an environment in which a core group of teachers and other adults within the school know the needs, interests, and aspirations of each student well, closely monitor each student's progress, and provide the academic and other support each student needs to succeed.

Striving Ninth-Grade Readers means those students who are enrolled in the ninth grade for the first time and who read English at a level that is two to four grades below their current grade level, as determined by an eighth-grade standardized test of reading. The term includes those students with limited English proficiency who are enrolled in ninth grade for the first time, who read English at a level that is two to four grades below their current grade level, and who took the State's eighth-grade standardized reading or language arts assessment with minimal accommodations (defined as having the test directions read to them orally, having access during the test to a dictionary, and/or being able to take the test without a time limit). The term does not include students with learning disabilities who have been designated to receive special education services in reading.

Selection Criteria

Proposed Selection Criteria

We propose that the following selection criteria be used to evaluate applications for new grants under this special competition. We may apply these criteria in any year in which we conduct an SLC supplemental reading program competition.

Need for Participation in the Supplemental Reading Program

In determining the need for participation in the supplemental reading program, we will consider the extent to which the applicant will—

(1) Involve schools that have the greatest need for assistance as indicated by such factors as: Student achievement scores in English or language arts; student achievement scores in other core curriculum areas; enrollment; attendance and dropout rates; incidents of violence, drug and alcohol use, and disciplinary actions; percentage of students who have limited English proficiency, come from low-income families, or are otherwise disadvantaged; or other need factors as identified by the applicant;

(2) Address the needs it has identified in accordance with paragraph (1) through participation in the supplemental reading program activities; and

(3) Employ strategies and carry out activities in its implementation of broader SLC activities that address the needs it has identified in accordance with paragraph (1).

Foundation for Implementation of the Supplemental Reading Program

In determining the foundation for implementation of the supplemental reading program, we will consider the extent to which—

(1) Administrators, teachers, and other school staff within each school support the school's proposed involvement in the supplemental reading program and have been and will continue to be involved in its planning, development, and implementation, including, particularly, those teachers who will be directly affected by the proposed project;

(2) Parents, students, and other community stakeholders support the proposed implementation of the supplemental reading program and have been and will continue to be involved in its planning, development and implementation;

(3) The proposed implementation of the supplemental reading program is consistent with, and will advance, State and local initiatives to increase student achievement and narrow gaps in achievement between all students and students who are economically disadvantaged, students from major racial and ethnic groups, students with disabilities, or students with limited English proficiency;

(4) The applicant demonstrates that it has carried out sufficient planning and preparatory activities, outreach, and consultation with teachers, administrators and other stakeholders to enable it to participate effectively in the supplemental reading program at the beginning of the 2005-6 school year; and

(5) The applicant articulates a plan for using information gathered from the evaluation of the supplemental reading program to inform decision and policymaking at the LEA and school levels.

Quality of the Project Design for the Broader SLC Project

In determining the quality of the project design for the broader SLC project we will consider the extent to which—

(1) The applicant demonstrates a foundation for implementing the broader SLC project, creating or expanding SLC structures or strategies in the school environment, including demonstrating:

(A) That it has the support and involvement of administrators, teachers, and other school staff;

(B) That it has the support of parents, students, and other community stakeholders;

(C) The degree to which the proposed broader SLC project is consistent with, and will advance, State and local initiatives to increase student achievement and narrow gaps in achievement; and

(D) The degree to which the applicant has carried out sufficient planning and preparatory activities to enable it to implement the proposed broader SLC project at the beginning of the 2005-6 school year.

(2) The applicant will implement or expand strategies, new organizational structures, or other changes in practice that are likely to create an environment in which a core group of teachers and other adults within the school know the needs, interests, and aspirations of each student well, closely monitor each student's progress, and provide the academic and other support each student needs to succeed; and

(3) The applicant will provide high-quality professional development throughout the project period that advances the understanding of teachers, administrators, and other school staff of effective, research-based instructional strategies for improving the academic achievement of students, including, particularly, students with academic skills that are significantly below grade level; and provide the knowledge and skills they need to participate effectively in the development, expansion, or implementation of a smaller learning community.

Quality of the Management Plan

In determining the quality of the management plan for the proposed project, we consider the following factors—

(1) The adequacy of the proposed management plan to allow the participating schools to implement effectively the research evaluation and broader SLC project on time and within budget, including clearly defined responsibilities and detailed timelines and milestones for accomplishing project tasks;

(2) The extent to which time commitments of the project director and other key personnel, including the teachers who will be responsible for providing instruction in the supplemental reading program, are appropriate and adequate to implement effectively the supplemental reading program and broader SLC project;

(3) The qualifications, including relevant training and experience, of the project director, the program coordinator, the teachers who will be responsible for providing instruction in the supplemental reading program, and other key personnel who will be responsible for implementing the broader SLC project; and

(4) The adequacy of resources, including the extent to which the budget is adequate, the extent to which the budget provides sufficient funds for the implementation of the supplemental reading program, and the extent to which costs are directly related to the objectives and design of the research evaluation and broader SLC activities.

Quality of the Broader SLC Project Evaluation

In determining the quality of the broader SLC project evaluation to be conducted on the applicant's behalf by an independent, third party evaluator, we consider the following factors—

(1) The extent to which the methods of evaluation are thorough, feasible, and appropriate to the goals, objectives, and outcomes of the proposed broader SLC project;

(2) The extent to which the evaluation will collect and annually report accurate, valid, and reliable data for each of the required performance indicators, including student achievement data that are disaggregated for economically disadvantaged students, students from major racial and ethnic groups, students with disabilities, and students with limited English proficiency;

(3) The extent to which the evaluation will collect additional qualitative and quantitative data that will be useful in assessing the success and progress of implementation, including, at a minimum, accurate, valid, and reliable data for the additional performance indicators identified by the applicant in the application;

(4) The extent to which the methods of evaluation will provide timely and regular feedback to the LEA and the school on the success and progress of implementation and will identify areas for needed improvement; and

(5) The qualifications and relevant training and experience of the independent evaluator.

Executive Order 12866

This notice of proposed priorities, requirements, definitions, and selection criteria has been reviewed in accordance with Executive Order 12866. Under the terms of the order, we have assessed the potential costs and benefits of this regulatory action.

The potential costs associated with the notice of proposed priorities, requirements, definitions, and selection criteria are those resulting from statutory requirements and those we have determined as necessary for administering this program effectively and efficiently.

In assessing the potential costs and benefits—both quantitative and qualitative—of this notice of proposed priorities, requirements, definitions, and selection criteria, we have determined that the benefits of the proposed priorities, requirements, definitions, and selection criteria justify the costs.

We have also determined that this regulatory action does not unduly interfere with State, local, and tribal governments in the exercise of their governmental functions.

Intergovernmental Review

This program is subject to Executive Order 12372 and the regulations in 34 CFR part 79. One of the objectives of the Executive order is to foster an intergovernmental partnership and a strengthened federalism. The Executive order relies on processes developed by State and local governments for coordination and review of proposed Federal financial assistance.

This document provides early notification of our specific plans and actions for this program.

Electronic Access to This Document

You may view this document, as well as all other Department of Education documents published in the Federal Register, in text or Adobe Portable Document Format (PDF) on the Internet at the following site: http://www.ed.gov/news/fedregister.

To use PDF you must have Adobe Acrobat Reader, which is available free at this site. If you have questions about using PDF, call the U.S. Government Printing Office (GPO), toll free, at 1-888-293-6498; or in the Washington, DC, area at (202) 512-1530.

Note: The official version of this document is the document published in the Federal Register. Free Internet access to the official edition of the Federal Register and the Code of Federal Regulations is available on GPO Access at: http://www.gpoaccess.gov/nara/index.html.

(Catalog of Federal Domestic Assistance Number 84.215L Smaller Learning Communities Program)
Program Authority: 20 U.S.C. 7249.
Dated: January 21, 2005.
Susan Sclafani,
Assistant Secretary for Vocational and Adult Education.

[FR Doc. 05-1477 Filed 1-26-05; 8:45 am]

BILLING CODE 4000-01-P